DEPARTMENT OF THE INTERIOR

Fish and Wildlife Service

[FWS-HQ-MB-2015-N025; FF09M29000-156F1611MD-FXMB12320900000]

Information Collection Request Sent to the Office of Management and Budget (OMB) for Approval; Depredation Orders for Double-Crested Cormorants

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on February 29, 2016. We may not conduct or sponsor and a person is not required to respond to a collection of information unless it displays a currently valid OMB control number. However, under OMB regulations, we may continue to conduct or sponsor this information collection while it is pending at OMB.

DATES: You must submit comments on or before March 18, 2016.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or hope_grey@fws.gov (email). Please include “1018-0121” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0121.

Title: Depredation Orders for Double-Crested Cormorants, 50 CFR 21.47 and 21.48.

Service Form Number(s): 3-202-18-2147; 3-202-19-2148.

Type of Request: Extension of a currently approved collection.

Description of Respondents: Aquaculture producers, States, and tribes.

Respondent's Obligation: Required to obtain or retain a benefit.

Frequency of Collection: Annually for reports; ongoing for recordkeeping.

Activity | Number of respondents | Number of responses | Completion time per response | Total annual burden hours
Report take of migratory bird species other than double-crested cormorants (21.47(d)(7); 21.48(d)(7)) | 1 | 1 | 1 hour | 1
Report take of species protected under Endangered Species Act (21.47(d)(8); 21.48(d)(8)) | 1 | 1 | 1 hour | 1
Written notice of intent to conduct control activities (21.48(d)(9)) | 12 | 12 | 3 hours | 36
Report of control activities (21.48(d)(10) and (11)) | 12 | 12 | 20 hours | 240
Report effects of management activities (21.48(d)(12)) | 9 | 9 | 75 hours | 675
Recordkeeping (21.47(d)(9)) | 325 | 325 | 7 hours | 2,275
Totals | 360 | 360 |  | 3,228

Estimated Annual Nonhour Burden Cost: None.

Abstract: This information collection is associated with regulations implementing the Migratory Bird Treaty Act (MBTA) (16 U.S.C. 703 et seq.). Under the MBTA, it is unlawful to take, possess, import, export, transport, sell, purchase, barter, or offer for sale, purchase, or barter, migratory birds or their parts, nests, or eggs, except as authorized by regulations implementing the MBTA.

The regulations in the Code of Federal Regulations (CFR) at 50 CFR 21.47 (Aquaculture Depredation Order) authorize landowners, operators, and tenants (or their employees or agents) actually engaged in the commercial, Federal, or State production of freshwater aquaculture stocks and the U.S. Department of Agriculture (APHIS-Wildlife Services) in 13 States to take double-crested cormorants when the birds are found committing or about to commit depredations on commercial freshwater aquaculture stocks. The regulations at 50 CFR 21.48 (Public Resource Depredation Order) authorize State fish and wildlife agencies, APHIS-Wildlife Services, and federally recognized tribes in 24 States to take double-crested cormorants to prevent depredations on the public resources of fish, wildlife, plants, and their habitats.

Both 50 CFR 21.47 and 21.48 impose reporting and recordkeeping requirements on those operating under the depredation orders. We use the information collected to:

• Help assess the impact of the depredation orders on double-crested cormorant populations.

• Protect nontarget migratory birds or other species.

• Ensure that agencies and individuals are operating in accordance with the terms, conditions, and purpose of the orders.

• Help gauge the effectiveness of the orders at mitigating cormorant-related damages.

Comments Received and Our Responses

On September 30, 2015, we published in the Federal Register (80 FR 58770) a notice of our intent to request that OMB renew approval for this information collection. In that notice, we solicited comments for 60 days, ending on November 30, 2015. We received one comment from an individual. Although much of what was submitted did not relate to the information collection directly, the commenter made two main points:

• The Service does not have a mechanism in place to evaluate the validity of the data submitted. Instead, the Service relies on the integrity of others to submit reliable data.

• There is no systematic evaluation of control programs and the system continues to proceed based on faith that what is being done is accomplishing some kind of benefit.

We appreciate these comments because they recognize the importance of collecting sufficient information to allow the Service to do its important job of protecting our public trust resources for the benefit of all. The information collected serves as a tool for enforcement of the depredation orders and contributes to our knowledge of the impacts of the depredation orders on double-crested cormorants. Because of the risk of enforcement, we believe those operating under these orders have reason to collect and report reliable data. We agree that the control program would benefit from a systematic evaluation. This evaluation will be conducted as resources allow. We did not make any changes to our requirements at this time.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: February 11, 2016.
Tina A. Campbell,
Chief, Division of Policy, Performance, and Management Programs, U.S. Fish and Wildlife Service.

[FR Doc. 2016-03200 Filed 2-16-16; 8:45 am]

BILLING CODE 4333-15-P